SECURITIES AND EXCHANGE COMMISSION

[Release No. IC—25643 ]

Notice of Applications for Deregistration Under Section 8(f) of the Investment Company Act of 1940

June 28, 2002.

The following is a notice of applications for deregistration under section 8(f) of the Investment Company Act of 1940 for the month of June, 2002. A copy of each application may be obtained for a fee at the SEC's Public Reference Branch, 450 Fifth St. NW., Washington, DC 20549-0102 (tel. 202-942-8090). An order granting each application will be issued unless the SEC orders a hearing. Interested persons may request a hearing on any application by writing to the SEC's Secretary at the address below and serving the relevant applicant with a copy of the request, personally or by mail. Hearing requests should be received by the SEC by 5:30 p.m. on July 23, 2002, and should be accompanied by proof of service on the applicant, in the form of an affidavit or, for lawyers, a certificate of service. Hearing requests should state the nature of the writer's interest, the reason for the request, and the issues contested. Persons who wish to be notified of a hearing may request notification by writing to the Secretary, SEC, 450 Fifth Street, NW., Washington, DC 20549-0609.

For Further Information Contact: Diane L. Titus at (202) 942-0564, SEC, Division of Investment Management, Office of Investment Company Regulation, 450 Fifth Street, NW., Washington, DC 20549-0506.

Brazos Insurance Funds [File No. 811-9811]

Summary: Applicant seeks an order declaring that it has ceased to be an investment company. On February 28, 2002, applicant's shareholders voluntarily redeemed their shares, based on net asset value. No expenses were incurred in connection with the liquidation.

Filing Dates: The application was filed on April 5, 2002, and amended on June 26, 2002.

Applicant's Address: 5949 Sherry Lane, Suite 1600, Dallas, TX 75225.

Dreyfus Institutional Short Term Treasury Fund [File No. 811-7097]

Summary: Applicant seeks an order declaring that it has ceased to be an investment company. On May 10, 2002, applicant made a liquidating distribution to its shareholders, based on net asset value. Expenses of $5,000 incurred in connection with the liquidation were paid by The Dreyfus Corporation, applicant's investment adviser.

Filing Date: The application was filed on June 17, 2002.

Applicant's Address: c/o The Dreyfus Corporation, 200 Park Ave., New York, NY 10166.

The Mallard Fund, Inc. [File No. 811-7861]

Summary: Applicant, a closed-end investment company, seeks an order declaring that it has ceased to be an investment company. On March 27, 2002, applicant made a final liquidating distribution to its shareholders, based on net asset value. Expenses of $5,509 incurred in connection with the liquidation were paid by applicant.

Filing Date: The application was filed on June 17, 2002.

Applicant's Address: 500 Grant St., Suite 2226, Pittsburgh, PA 15219.

Merrill Lynch Intermediate Government Bond Fund [File No. 811-4839]

Summary: Applicant seeks an order declaring that it has ceased to be an investment company. On December 15, 2000, applicant transferred its assets to Merrill Lynch Short Term U.S. Government Fund, Inc., based on net asset value. Expenses of $104,087 incurred in connection with the reorganization were paid by the surviving fund.

Filing Dates: The application was filed on May 7, 2002, and amended on June 18, 2002.

Applicant's Address: 800 Scudders Mill Rd., Plainsboro, NJ 08536.

AmeriSen Funds [File No. 811-10285]

Summary: Applicant seeks an order declaring that it has ceased to be an investment company. On March 27, 2002, applicant made a liquidating distribution to its shareholders based on net asset value. Applicant incurred no expenses in connection with the liquidation.

Filing Dates: The application was filed on May 30, 2002, and amended on June 18, 2002.

Applicant's Address: 14340 Torrey Chase Blvd., Suite 170, Houston, TX 77014.

Merrill Lynch Multi-State Limited Maturity Municipal Series Trust [File No. 811-4264]

Summary: Applicant seeks an order declaring that it has ceased to be an investment company. On April 8, 2002, applicant transferred its assets to The Limited Maturity Portfolio of Merrill Lynch Municipal Bond Fund, Inc., based on net asset value. Expenses of approximately $166,531 incurred in connection with the reorganization were paid by the surviving fund.

Filing Date: The application was filed on June 4, 2002.

Applicant's Address: 800 Scudders Mill Rd., Plainsboro, NJ 08536.

SIFE Trust Fund [File No. 811-987]

Summary: Applicant seeks an order declaring that it has ceased to be an investment company. On February 25, 2002, applicant transferred its assets to Wells Fargo SIFE Financial Services Fund, based on net asset value. Applicant incurred no expenses in connection with the reorganization.

Filing Date: The application was filed on June 6, 2002.

Applicant's Address: 100 North Wiget Ln., Walnut Creek, CA 94598.

Phillips Capital Investments, Inc. [File No. 811-5245]

Summary: Applicant seeks an order declaring that it has ceased to be an investment company. On December 21, 2001, applicant made a liquidating distribution to its shareholders based on net asset value. Applicant incurred no expenses in connection with the liquidation.

Filing Date: The application was filed on May 28, 2002.

Applicant's Address: 18007 Old Preston Court, Dallas, TX 75252.

Questar Funds, Inc. [File No. 811-8655]

Summary: Applicant seeks an order declaring that it has ceased to be an investment company. Applicant consists of three separate series: MacroTends Fund, Imperial Financial Services Fund and Excalibur Fund (formerly Phoenix Management Fund). By March 13, 2002, all of applicant's shareholders had redeemed their shares based on net asset value. Expenses of $8,690, $8,650 and $8,812 were incurred in connection with the liquidation and were paid, respectively, by each series of applicant.

Filing Date: The application was filed on May 28, 2002.

Applicant's Address: 1500 Forest Ave., Suite 223, Richmond, VA 23229.

SHARCS Trust I [File No. 811-21025]

Summary: Applicant, a closed-end investment company, seeks an order declaring that it has ceased to be an investment company. Applicant has never made a public offering of its securities and does not propose to make a public offering or engage in business of any kind.

Filing Dates: The application was filed on May 16, 2002, and amended on June 2, 2002.

Applicant's Address: c/o Salomon Smith Barney Inc., 388 Greenwich St., New York, NY 10013.

American Municipal Term Trust Inc. II [File No. 811-6356]

Minnesota Municipal Term Trust Inc. [File No. 811-6359]

Summary: Each applicant seeks an order declaring that it has ceased to be an investment company. On April 10, 2002, each applicant made a liquidating distribution to its shareholders based on net asset value. Expenses of $12,810 and $12,621, respectively, were incurred in connection with the liquidations and were paid by each applicant.

Filing Dates: The applications were filed on April 30, 2002, and amended on May 30, 2002.

Applicants' Address: 800 Nicollet Mall, Minneapolis, MN 55402.

Mercury Target Select Equity Fund, Inc. [File No. 811-10037]

Summary: Applicant seeks an order declaring that it has ceased to be an investment company. On November 26, 2001, applicant made a liquidating distribution to its shareholders based on net asset value. Expenses of $4,500 incurred in connection with the liquidation were paid by Merrill Lynch Investment Managers, parent of applicant's sub-adviser.

Filing Dates: The application was filed on January 30, 2002, and amended on May 30, 2002.

Applicant's Address: 800 Scudders Mill Rd., Plainsboro, NJ 08536.

For the Commission, by the Division of Investment Management, pursuant to delegated authority.
Jill M. Peterson,
Assistant Secretary.

[FR Doc. 02-16846 Filed 7-3-02; 8:45 am]

BILLING CODE 8010-01-P